DEPARTMENT OF DEFENSE

Office of the Secretary

[Transmittal No. 22-58]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-58, Policy Justification, and Sensitivity of Technology.

Dated: December 20, 2024.
Stephanie J. Bost,
Alternate OSD Federal Register Liaison Officer, Department of Defense.

Transmittal No. 22-58

Notice of Proposed Issuance of Letter of Offer Pursuant to Section 36(b)(1) of the Arms Export Control Act, as Amended

(i) Prospective Purchaser: Government of Egypt

(ii) Total Estimated Value:

Major Defense Equipment * | $0
Other | $129 million
TOTAL | $129 million

Funding Source: Foreign Military Financing (FMF)

(iii) Description and Quantity or Quantities of Articles or Services under Consideration for Purchase: Foreign Military Sales case EG-P-LFY was below congressional notification threshold at $49 million for non-Major Defense Equipment (MDE) 28-meter patrol craft production kits. The Government of Egypt requested that the case be amended to include additional 28-meter patrol craft production kits. This case amendment will increase the total case value above the non-MDE notification threshold, and thus notification of the entire case is required.

Major Defense Equipment:

None

Non-MDE:

Included are 28-meter patrol craft production kits consisting of Rigid Hull Inflatable Boats, forward-looking infrared systems, and computer packages; technical and logistics support services; transportation; spare parts, materials, equipment, and components; and other related elements of logistical and program support.

(iv) Military Department: Navy (EG-P-LFY)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: January 10, 2024

* As defined in Section 47(6) of the Arms Export Control Act.

POLICY JUSTIFICATION

Egypt—28-Meter Patrol Craft Kits

The Government of Egypt has requested to buy additional non-Major Defense Equipment 28-meter patrol craft production kits and technical support. The kits consist of Rigid Hull Inflatable Boats, forward-looking infrared systems, and computer packages; technical and logistics support services; transportation; spare parts, materials, equipment, and components; and other related elements of logistical and program support. The estimated total cost is $129 million.

This proposed sale will support United States (U.S.) foreign policy and national security objectives by helping to improve the security of a Major Non-NATO Ally that continues to be an important force for political stability and economic growth in the Middle East.

The proposed sale will improve Egypt's capacity to sustain security operations and strengthen its internal and external defense capabilities. The proposed sale will assist the Government of Egypt's maritime patrol and interdiction efforts to contribute to regional maritime security efforts in the Mediterranean and Red Sea. Egypt will have no difficulty absorbing this equipment and services into its armed forces.

The proposed sale of this equipment and support will not alter the basic military balance in the region.

The principal contractor will be Swiftships, of Morgan City, LA. There are no known offset agreements proposed in connection with this potential sale.

Implementation of this proposed sale will require multiple trips to Egypt involving one (1) U.S. Government representative and three (3) contractor representatives for approximately three (3) years for program management, program and technical reviews, training, maintenance support, and site surveys.

There will be no adverse impact on U.S. defense readiness as a result of this proposed sale.

Transmittal No. 22-58

Notice of Proposed Issuance of Letter of Offer Pursuant to Section 36(b)(1) of the Arms Export Control Act

Annex

Item No. vii

(vii) Sensitivity of Technology:

1. The 28-meter patrol craft production kits consist of Rigid Inflatable Boats, materials, equipment, and components for 28-meter patrol craft. Technical support is also included.

2. The highest level of classification of defense articles, components, and services included in this potential sale is UNCLASSIFIED.

3. If a technologically advanced adversary were to obtain knowledge of the hardware and software elements, the information could be used to develop countermeasures or equivalent systems which might reduce system effectiveness or be used in the development of a system with similar or advanced capabilities.

4. A determination has been made that the Government of Egypt can provide substantially the same degree of protection for the sensitive technology being released as the U.S. Government. This sale is necessary in furtherance of the U.S. foreign policy and national security objectives outlined in the Policy Justification.

5. All defense articles and services listed in this transmittal are authorized for release and export to the Government of Egypt.

[FR Doc. 2024-31136 Filed 12-30-24; 8:45 am]

BILLING CODE 6001-FR-P